DEPARTMENT OF HEALTH AND HUMAN SERVICES

Centers for Disease Control and Prevention

[Program Announcement 00100]

Community-Based Strategies To Increase HIV Testing of Persons at High Risk in Communities of Color; Notice of Availability of Funds

A. Purpose

Why Are These Funds Being Offered?

For fiscal year 2000, the Centers for Disease Control and Prevention (CDC) is offering funds to community-based organizations (CBOs) to implement innovative strategies to increase the number of high-risk persons who receive HIV prevention counseling, testing, and referral services. These CBOs should be working in communities of color (African Americans, Hispanics, American Indians, Asian and Pacific Islanders) and focus special emphasis on trying to reach those who are HIV positive and do not know their status.

Goals

1. To strengthen HIV prevention services provided by CBOs in communities of color which have very high risk of HIV infection.

2. To increase community-based HIV counseling, testing, and referral services.

3. To increase the number of high-risk persons who are tested for HIV infection and find out the test results.

4. To promote successful partnerships to improve HIV testing and prevention efforts.

B. Eligible Applicants

Who Can Apply?

To Be Able To Apply, You Must

1. Have a current non-profit status under Internal Revenue Service Code Section 501(c)(3).

2. Be located in and provide services to communities of color that are in the 40 metropolitan statistical areas (MSAs) with the highest prevalence of reported AIDS cases in communities of color as of 1998 or in any of the counties or cities that had the most syphilis cases in 1999 (see below for a list of the MSAs and high syphilis counties).

3. Have more than half of your executive board or governing group filled by members of the racial/ethnic population you plan to serve.

4. Have more than half of your key management, supervisory, and administrative positions (for example, executive, program, fiscal director positions), and more than half of your key service positions (for example, outreach worker, case manager, counselor, group facilitator) filled by members of the racial/ethnic population you plan to serve.

5. Be able to show that your organization has provided HIV prevention or care services to the targeted population for 2 years or more.

6. Have a current letter of support from the health department that shows you have discussed with them the details of your proposed counseling, testing, and referral activities and that you agree to follow the health department's guidelines for these services. If your organization is selected for funding, you will need a formal memorandum of agreement with the health department. (See below for more detailed information on working with the health department.)

7. Not request more than $250,000, including indirect costs.

8. Not be a government or municipal agency (including a health department, school board, or public hospital), a private or public university or college, or a private hospital.

You can apply on your own or with one or more CBOs as a coalition. The term coalition, for this announcement, means a group of organizations working together, where each organization has a clearly defined activity assigned to them from the overall program plan. All groups share program responsibilities, but the organization applying for funds must take the lead and perform a substantial portion of the program activities. The lead organization must meet all of the requirements listed above. Groups that are to be a part of the coalition must meet the requirement in #2 in this section.

For this announcement, only those organizations that are in the following 40 high AIDS prevalence MSAs for 1998 or the 25 high syphilis counties for 1999 are eligible to apply (because there is overlap between the MSAs and syphilis counties, only nine of the syphilis counties are listed separately). In the following list, counties, municipalities, and cities (in parentheses) and contact names, phone numbers, and e-mail addresses are included for each MSA and high syphilis county. The list is separated by state. City names connected with a hyphen indicate one MSA.

MSAs

New York: Nassau-Suffolk (Nassau and Suffolk); New York City (Bronx, Kings, New York, Putnam, Queens, Richmond, Rockland, Westchester); Rochester (Genesee, Livingston, Monroe, Ontario, Orleans, Wayne); Contact: Maria Favuzzi, 212-788-4224; e-mail: mfavuzzi@dohlan.cn.ci.nyc.ny.us.

California: Los Angeles-Long Beach (Los Angeles); Oakland (Alemeda, Contra Costa); Orange County (Orange); Riverside-San Bernadino (Riverside, San Bernadino); San Francisco (Marin, San Francisco, San Mateo); San Diego (San Diego); Contacts: California: Mary Geary, 916-327-3243; e-mail: mgeary@dhs.ca.gov; San Francisco: Marise Rodrigues, 415-554-9176; e-mail: marise—rodriguez@dph.sf.ca.us; Los Angeles: Charles L. Henry, 213-351-8001; e-mail: chenry@dhs.co.la.ca.us, fax: 213-387-0912.

Florida: Fort Lauderdale (Broward); Jacksonville (Clay, Duval, Nassau, St. Johns); Miami (Dade); Orlando (Lake, Orange, Osceola, Seminole); Tampa-St. Petersburg-Clearwater (Hernando, Hillsborough, Pasco, Pinellas); West Palm Beach-Boca Raton (Palm Beach); Contact: Marlene Lalota, 850-245-4423; e-mail: marlene_lalota@doh.state.fl.us.

Washington, D.C./Maryland/Virginia/West Virginia: Washington, D.C. (District of Columbia; Calvert, Charles, Frederick, Montgomery, Prince George's, MD; Arlington, Clarke, Culpeper, Fairfax, Fauquier, King George, Loudoun, Prince William, Spotsylvania, Stafford, Warren, Alexandria city, Fairfax city, Falls Church city, Fredericksburg city, Manassas city, Manassas Park city, VA; Berkeley, Jefferson, WV); Norfolk-Virginia Beach, Newport-News (Currituck, NC; Gloucester, Isle of Wight, James city, Mathews, York, Chesapeake city, Hampton city, Newport News city, Norfolk city, Poquoson city, Portsmouth city, Suffolk city, Virginia Beach city, Williamsburg city, VA); Richmond-Petersburg (Charles city, Chesterfield, Dinwiddie, Goochland, Haqnover, Henrico, New Kent, Powhatan, Prince George, Colonial Heights city, Hopewell city, Petersburg city, Richmond city, VA); Contacts: District of Columbia: Donald Jones, 202-727-2500; Virginia: Teresa Henry, 804-371-4119; e-mail: thenry@vdh.state.va.us; West Virginia: Loretta Haddy 304-558-5358; e-mail: lorettahaddy@wvdhhr.org; Maryland: Gary Wunderlich, 410-767-5287; e-mail: wunderlichg@dhmh.state.md.us.

New Jersey/Pennsylvania: Bergen-Passaic (Bergen, Passaic); Middlesex-Somerset-Hunterdon (Hunterdon, Middlesex, Somerset); Jersey City (Hudson); Newark (Essex, Morris, Susses, Union, Warren); Philadelphia (Burlington, Camden, Gloucester, Salem, NJ; Bucks, Chester, Delaware, Montgomery, Philadelphia, PA); Contacts: New Jersey: Laurence E. Ganges, 609-984-6125; e-mail: lganges@doh.state.nj.us; Philadelphia: Jeffrey Jenne, 212-685-5639; e-mail: jeffrey.jenne@phila.gov.

Puerto Rico: San Juan (Aguas Buenas, Barceloneta, Bayamon, Canovanas, Carolina, Catano, Ceiba, Comerio, Corozal, Dorado, Fajardo, Florida, Guaynabo, Humacao, Juncos, Las Piedras, Loiza, Luquillo, Manati, Morovis, Naguabo, Naranjito, Rio Grande, San Juan, Toa Alta, Toa Baja, Trujillo Alto, Vega Alta, Vega Baja, Yabucoa); Contact: Orlando Lopez, 787-274-5502; e-mail: olopez@salud.gov.pr.

Maryland: Baltimore (Anne Arundel, Baltimore, Carroll, Harford, Howard, Queen Anne's, Baltimore City); Contact: Gary Wunderlich, 410-767-5287; e-mail: wunderlichg@dhmh.state.md.us.

Illinois: Chicago (Cook, DeKalb, DuPage, Grundy, Kane, Kendall, Lake, McHenry, Will); Contacts: Illinois: Sharon Pierce, 217-524-5983; e-mail: spierce@idph.state.il.us.

Chicago: Janice Johnson, 312-747-0120; e-mail: john248w@aol.com.

Georgia: Atlanta (Barrow, Bartow, Carroll, Cherokee, Clayton, Cobb, Coweta, DeKalb, Douglas, Fayette, Forsyth, Fulton, Gwinnett, Henry, Newton, Paulding, Pickens, Rockdale, Spalding, Walton); Contact: Miguel Miranda, 404-657-3100; e-mail: mamiranda@dhr.state.ga.us.

Texas: Austin (Bastrop, Caldwell, Hays, Travis, Williamson); Dallas (Collin, Dallas, Denton, Ellis, Henderson, Hunt, Kaufman, Rockwall); Houston (Chambers, Fort Bend, Harris, Liberty, Montgomery, Waller); San Antonio (Bexar, Comal, Guadalupe, Wilson); Contacts: Texas: Casey Blass or Janna Zumbrun, 512-490-2515; e-mails: casey.blass@tdh.state.tx.us or janna.zumbrun@tdh.state.tx.us. Houston: Lupita Thornton, 713-798-0829; e-mail: lthornton@hlt.ci.houston.tx.us.

Massachusetts/New Hampshire: Boston-Worcester-Lawrence-Lowell-Brockton (Bristol, Essex, Middlesex, Norfolk, Plymouth, Suffolk, Worcester, MA; Hillsborough, Rockingham, Strafford, NH); Contacts: Massachusetts: Jean McGuire, 6171-624-5303; e-mail: jean.mcguire@state.ma.us; New Hampshire: David R. Ayotte, 603-271-4481; e-mail: dayotte@dhhs.state.nh.us.

Connecticut: Hartford (Hartford, Middlesex, Tolland); New Haven-Bridgeport-Stamford-Danbury-Waterbury (Fairfield, New Haven); Contact: Richard Melchreit, 860-509-7800; e-mail: richard.melchreit@po.state.ct.us.

Michigan: Detroit (Lapeer, Macomb, Monroe, Oakland, St. Clair, Wayne); Contact: Loretta Davis-Satterla, 517-335-9673.

Louisiana: New Orleans (Jefferson, Orleans, Plaquemines, St. Bernard, St. Charles, St. James, St. John the Baptist, St. Tammany); Contact: Daphne LeSage 504-568-7474; e-mail: dlesage@dhhmail.dhhstate.la.us.

Tennessee/Arkansas/Mississippi: Memphis-Arkansas-Mississippi (Crittenden, AR; DeSoto, MS; Fayette, Shelby, Tipton, TN); Contact: Tennessee: Richard E. Cochran, 615-741-7764; e-mail: rcochran@mail.state.tn.us; Arkansas: John Chmielewski, 501-661-2666; e-mail: jchmielewski@mail.doh.state.ar.us; Mississippi: Craig Thompson, 601-576-7711; e-mail: craig.thompson@msdh.state.ms.us.

Missouri/Illinois: St. Louis-Illinois (Clinton, Jersey, Madison, Monroe, St. Clair, IL; Franklin, Jefferson, Lincoln, St. Charles, St. Louis, Warren, St. Louis city, MO); Contact: Missouri: Mary Menges, 573-751-6141; e-mail: mengem@mail.health.state.mo.us; Illinois: Sharon Pierce, 217-524-5983; spierce@idph.state.il.us.

Ohio: Cleveland-Lorain-Elyria (Ashtabula, Cuyahoga, Geauga, Lake, Lorain, Medina); Contact: Lee Evans, 614-644-1850; e-mail: eevans@gw.odh.state.oh.us

South Carolina: Columbia (Lexington, Richland); Contact: Linda Kettinger, 803-898-0625; e-mail: kettinld@columb60.dhec.state.sc.us.

High Syphilis Counties

Arizona: Maricopa County; Contact: Ann Gardner or Lee Connelly, 602-230-5819; e-mails: agardne@hs.state.az.us; lconnel@hs.state.az.us.

Indiana: Marion County; Contact: Michael Butler, 317-233-7867; e-mail: mbutler@isdh.state.in.us.

Kentucky: Jefferson County; Contact: Gary Kupchinsky, 502-564-6539; e-mail: gary.kupchinsky@mail.state.ky.

Mississippi: Hinds County, Contact: Craig Thompson, 601-576-7711; e-mail: craig.thompson@msdh.state.ms.us.

North Carolina: Guilford and Mecklenburg Counties; Guilford: Harold Gabel, 336-373-3283; e-mail: hgabel@mail.co.guilford.nc.us; Mecklenburg: Peter Safer, 704-336-4700; safir@mindspring.com.

Oklahoma: Oklahoma City; Contact: Bill Pierson, 405-271-4636; e-mail: billp@health.state.ok.us.

Virginia: Danville City; Contact: Teresa Henry, 804-371-4119; e-mail: thenry@vdh.state.va.us.

Washington: King County; Contact: Karen Hartfield, 206-296-4649; e-mail: karen.hartfield@metrokc.gov.

Wisconsin: Milwaukee City, Contact: Kathleen Krchnavek, 608-267-3583; e-mail: krchnka@dhfs.state.wi.us.

Working With the Health Department

HIV prevention counseling, testing, and referral are complicated program activities with important legal, medical, and ethical implications. Health departments have been providing these services since the mid 1980s. During these years, they have developed policies, procedures, guidelines, and performance standards for counseling, testing, and referral that are responsive to the specific laws and other issues in their state. Health departments have a legal responsibility to ensure adherence to these policies, procedures, guidelines, and performance standards. If you receive funding under this announcement, you are required to work with the health department that is located in your area. CDC will help you establish this partnership. The following lists what you must do as an applicant and if you are selected for funding.

Applicant:

1. Talk with the health department about the details of your proposed counseling, testing and referral procedures, and research the health department's policies and guidelines for these services. Your proposed program should be responsive to these requirements.

2. Include in your application a letter of support from the health department showing you have discussed with them the details of your proposed counseling, testing, and referral activities and that you agree to follow the health department's guidelines for all of these services (examples include, but are not limited to informed consent, anonymous versus confidential testing, training of counselors, confidentiality, surveillance reporting, laboratory processing).

If Funded:

1. Obtain an official memorandum of agreement with the health department.

2. Report to the health department on your activities. The health department will have the forms you need. Information you need to gather will generally include the following, but may vary between health departments: state, site type, site number, date of visit, sex, race/ethnicity, age, reason for visit, risk for HIV infection, whether client accepted testing, results of test, whether post-test counseling occurred, date of post-test counseling and state, county, and zip code of client residence.

3. Work with the health department to meet their training standards if your organization's staff needs training in how to do HIV prevention counseling, testing, and referral. You must follow the health department's guidelines.

In those locations where there are Prevention for HIV-Infected Persons (PHIP) Demonstration Projects, funded organizations will be asked to work in collaborative relationship with the health department-funded PHIP project. The jurisdictions funded under the PHIP project include California, Maryland, Wisconsin, the City of San Francisco, and Los Angeles County. CDC will assist you in making contact with these PHIP projects.

Note: You can only submit one application. If you apply alone and as part of a group, your application will not be considered and will be returned to you. Your organization can apply for this funding even if you are currently receiving funding from CDC; however, you must still meet all of the requirements above.

Note: Your application will not be considered for funding if it (1) does not meet any one of the items listed above, (2) asks for funds to support only administrative and not program implementation costs, or (3) asks for more than $250,000, including indirect costs. No organization will receive more than $250,000 for the first year. Also, public Law 104-65 states that an organization described in section 501(c)(4) of the Internal Revenue Code of 1986 that engages in lobbying activities is not eligible to receive Federal funds constituting an award, grant, cooperative agreement, contract, loan, or any other form.

C. Availability of Funds

How Much Money Is Available?

About $8 million is available for awards for fiscal year 2000. Those CBOs who are selected will receive funding in September 2000. The funds are to be used during a budget time frame of 12 months.

Note: Funding estimates may change based on the availability of funds.

Your organization's project may be continued for a total of 4 years (that is to say, 2000, 2001, 2002, 2003) under this agreement. Funding at the same level after the first year is based on the amount of funds available to CDC and your success and/or progress in meeting your goals and objectives. You must keep track of your successes by writing reports and sending them to CDC. Also, CDC staff may visit your organization to learn about your activities. When asking for subsequent funding, you must again show CDC that you still meet the requirements stated under “Who Can Apply?”

CDC is committed to working with CBOs in these activities and to ensuring that these funds are distributed in a way that matches the geographic locations and risk behaviors where the epidemic is widespread.

How Is the Money To Be Used?

This funding must be used to help communities of color which have high rates of HIV infection or whose members are at a high risk of infection and do not know their status. These funds are intended to increase the number of high-risk persons who get tested for HIV and, as a result, learn their HIV status. They also are intended to support HIV prevention counseling and referral for these persons and their sex or needle-sharing partners, as needed.

Note: You cannot use these funds to give medical care (for example, substance abuse treatment, medical treatment, or medications).

Part of the funding received through this announcement can be used to hire one or more contractors or to support coalition partners to help with specific activities; however, you, not the contract organization(s) or the coalition partner, must carry out most of the activities (including managing the program and activities) paid for with this funding.

D. Program Requirements

Recipient Activities—What Activities Must My CBO Do?

Prevention Priority Activities

1. Reaching Your Clients.

2. Counseling and Testing.

3. Referral and Linkages With Other Service Providers.

4. Partner Counseling and Referral Services.

5. Training, Quality Assurance, and Program Monitoring and Evaluation.

1. Reaching Your Clients

There are many activities you might implement to reach those persons who are at a high risk of becoming HIV infected or who are already infected but don't know that they are. Services should be provided in a setting that is comfortable and accessible to your clients. Reaching out to promote easy access will help to inform and encourage these persons to use the HIV prevention services that are available. In your proposed program, you will need to include details of how you plan to reach these sometimes hard-to-reach persons and make counseling, testing, and referral services more easily accessible to them.

2. Counseling and Testing

Your proposed activities must meet all local and state legal requirements for HIV prevention counseling, testing, and referral services and should address how you intend to provide these services in areas with a high rate of HIV infection, AIDS cases, or high-risk activities. You may choose to provide services in your facility or make services available in areas where these persons live, work, and gather (for example, street outreach using mobile vans, testing in housing projects, testing in parks). Your proposed activities should include plans on how to train staff to:

a. Give persons client-centered prevention counseling, testing, and referral services as outlined in CDC guidance (see section I. Where Can I Get More Information for a list of helpful publications).

b. Follow up with those who have not returned to find out if they are infected with HIV or to receive post-test counseling.

c. Gather information on your activities to give to the health department and CDC. Your health department will give you the reporting forms you need.

Note: Funds from this cooperative agreement cannot be used for ongoing counseling sessions. Your proposed plans should include a way to refer persons who are HIV infected or at a high risk of infection for extended counseling.

Some of the newest rapid test technologies greatly improve testing efforts. As reported in CDC's Morbidity and Mortality Weekly Report (March 27, 1998/47(11); 211-215), the use of the rapid test with same-day results for HIV screening in clinical-care settings can substantially improve the delivery of counseling and testing services * * * providing preliminary positive results also increases the number of infected persons who ultimately learn their infection status and can be referred for medical treatment and prevention services. These tests can be especially effective in outreach activities and consideration should be given to using them. Discuss your proposed testing methods with your health department. CDC will provide more information on rapid tests to those organizations selected for funding.

3. Referral and Linkages With Other Service Providers

Those persons who are at a high risk of HIV or are infected with the virus will need more services than will be supported by this funding. To meet needs such as ongoing counseling or medical care, you must:

a. Provide referrals for ongoing counseling and other services to meet their needs (for example, sexually transmitted disease [STD] and tuberculosis screening and treatment, prevention services, mental health services, substance abuse treatment).

b. Be able to track and report how many HIV-infected persons acted on the referral you provided and are receiving services as a result of the referral.

c. Keep your referral lists up to date.

Note: Because rates of both HIV and STDs are high, prevention programs that include both of these are better able to meet the needs of the target population(s). If your organization does not do STD testing and treatment, then you must find out who in your area does and work closely with them so you can refer your clients when necessary.

4. Partner Counseling and Referral Services

Sex and needle-sharing partners of HIV infected persons should be told of their risk and be offered HIV prevention counseling, testing, and referral services. Training and experience are necessary to be able to offer this service. If your organization does not have this training or experience, you must work with the health department to determine the best plan for providing partner notification services. Some states require that only the health department provide these services. If you will provide this service, you must obtain and follow the health department's guidelines, protocols, procedures, and performance standards for partner counseling and referral. If you do not follow certain guidelines, you could be breaking state laws concerning privacy. Contact the health department for a complete list of requirements.

5. Training, Quality Assurance, and Program Monitoring and Evaluation

Staff who will provide HIV counseling, testing, partner counseling, and referral services must be appropriately trained. Also, checking to see how good a job you are doing and continuing to learn ways to improve your program are ongoing parts of this cooperative agreement. It is suggested that if selected for funding, you invest approximately five percent of the funds for training, quality assurance, and program monitoring and evaluation.

Your proposed program should address how you would:

a. Keep track of the training your staff receives in pre- and post-test HIV prevention counseling and referral and partner counseling and referral.

b. Check on whether staff are following guidelines on how to provide pre- and post-test HIV prevention counseling and partner counseling and referral (for example, have management sit in on a counseling session).

c. Check on whether staff are following guidelines on testing methods and laboratory processing.

d. Determine if objectives, as defined in your application, are being met.

e. Find out if persons who test positive for HIV infection returned to get their test results.

f. Know if your services are meeting the needs of the target population. Surveys and focus groups are a good way to collect this information from your clients.

g. Gather information required by the health department that covers each episode of HIV prevention counseling and testing you provide. Following is the type of information that should be included: state, site type, site number, date of visit, gender, race/ethnicity, age, reason for visit, risk for HIV infection, whether client accepted testing, results of test, whether post-test HIV prevention counseling occurred, date of post-test HIV prevention counseling and state, county, and zip code of client residence.

CDC Activities—How Will CDC Help?

If you are selected for funding, CDC will support you by:

1. Providing assistance and consultation on program and administrative issues through its partnerships with health departments, national and regional minority organizations, contractors, and other national and local organizations.

2. Meeting with you to find out what your training needs are and working with you to ensure those needs are met.

Note: CDC will work with state and local health departments to provide training either directly or through its network of HIV/STD prevention training centers. This service is available to persons who supervise, manage, and perform partner counseling and referral and other outreach activities and for staff who provide direct patient care.

3. Sharing the most up-to-date scientific information on risk factors for HIV infection and prevention measures, and successful program strategies to help prevent HIV infection.

4. Providing assistance and information if you choose to use the new rapid test technologies.

5. Helping you establish partnerships with state and local health departments, community planning groups, and other groups who receive federal funding to support HIV/AIDS activities.

6. Making sure that successful prevention interventions, program models, and lessons learned are shared between grantees through meetings, workshops, conferences, newsletter development, Internet, and other avenues of communication.

7. Overseeing your success in program and fiscal activities, protection of client privacy, and compliance with other requirements that apply to your organization.

E. Application Content

What Do I Include in My Application and How Should It Look?

Note: Applications that do not follow the instructions and format below will be returned without being reviewed.

Application Instructions

For your application to be considered for funding, you must include all of the following parts of the proposal: (1) Table of Contents; (2) How Do I Show My Eligibility?; (3) What Do I Include in the Abstract?; (4) How Do I Write My Proposal? (Narrative); (5) Justification of Need (20 points; 6 pages); (6) Program Activities (40 points; 15 pages); (7) Training, Quality Assurance, and Program Monitoring and Evaluation (25 points; 8 pages); (8) Organization History and Experiences (15 points; 6 pages); and (9) How Much Will Your Proposed Program Cost (Budget).

Format Guidelines

You must:

1. Include page numbers throughout your application. Begin with the first page and number each page through to the last page of the last attachment.

2. Have a Table of Contents for the whole package you send in.

3. Begin each separate section of your application on a new page.

4. Not staple or bind the original document submission or the two (2) copies.

5. Type all materials in a 12 point type size, single spaced.

6. Use 8½ x 11 paper.

7. Set the margins at a minimum of 1 inch.

8. Use headers and footers, as needed.

9. Type on one side of the paper only.

Content Guidelines

The sections that follow give you the questions you have to answer to correctly prepare your application. There are four sections:

1. How Do I Show My Eligibility?

2. What Do I Include in the Submission Form?

3. How Do I Write My Proposal (Narrative)?

4. How Much Will My Proposed Program Cost and How Many Staff Do I Need?

When answering the questions below, you must:

1. Label each section, as indicated below, using the section title (for example, How Do I Show My Eligibility?) and, when appropriate, the name of the subsection (for example How Do I Write My Proposal [Narrative], Justification of Need).

2. Use the abbreviation N/A (not applicable), if a section does not apply to your application.

3. Include all information that is part of the basic plan (for example, activity timetables, staff program responsibilities, evaluation plans) in the main section of the application.

Note: Your application will be reviewed based on the answers you give to these questions. To be sure you get the best review of your application, follow the format provided below when writing your application. Please answer all questions with complete sentences that provide detailed information about your eligibility and proposed activities. Do not put basic information in attachments.

How Do I Show My Eligibility?

In this section, give us information about your organization. For example, your non-profit, tax exempt status; target population; goals; and location of your office and proposed target area within the 40 MSAs with the highest prevalence of AIDS for 1998 or the high syphilis areas as of 1999 (see B. Who Can Apply for a list of MSAs and high syphilis counties). This will let us know if you are eligible.

You must answer all of the following questions and provide any documents requested. If you do not provide all the materials requested, your application will not be reviewed and will be returned to you. Place the documents at the end of your application answers for this section. Do not place these documents with the attachments that you will include at the end of your application.

1. Is your organization located within and serving one of the MSAs with the highest prevalence of reported AIDS cases as of 1998 or one of the counties or cities with the highest syphilis cases as of 1999? If yes, which one?

2. Does your organization have a current, valid Internal Revenue Service (IRS) 501(c)(3) non-profit status?

Note: If you answer yes, you must attach a copy of the determination letter from the IRS at the end of this section. If your answer is no, you are not eligible to submit an application.

3. Has your organization provided HIV prevention or care services to the population you plan to target for two years or more?

Note: Attach to the end of this section a list of the HIV prevention or care services your organization has provided to the proposed target population and the time period during which each type of service was provided (for example, street outreach, July 1996-present).

4. Does your organization have an executive board or governing body with more than half of its members belonging to the racial/ethnic minority population(s) you plan to serve?

Note: Attach to the end of this section a list of your board or governing body members, and indicate for each position held, race/ethnicity, profession, and gender.

5. Are more than half of key management, supervisory, and administrative positions (for example, executive director, program director, fiscal director) and more than half of key service provision positions (for example, outreach worker, prevention case manager, counselor, group facilitator) filled by persons belonging to the racial/ethnic minority population(s) you plan to serve?

Note: Attach a list of your current key staff at the end of this section. For each staff person listed, include his/her areas of expertise, role he/she will play in the proposed project, race/ethnicity, and gender. If you think you will need more staff to carry out your proposed plan, please provide a list of staff needed at the end of this section. Include expertise needed, the role they will fill, and race/ethnicity, as it applies.

6. Do you have a letter of support from the health department indicating that you have discussed with them your plans for HIV prevention counseling, testing, and referral services and that you agree to follow the health department's guidelines for these activities.

Note: Attach the letter from the health department to the end of this section. If you are selected for funding, you will have to have a formalized memorandum of agreement with the health department.

7. Is your organization applying alone or with other organizations in a coalition (this means a group of organizations working together, where each organization has a clearly defined activity assigned to them from the overall program plan)?

8. Is your organization currently funded under one of the following CDC Program Announcements: 99091, 99092, 99096, or 00023? If yes, list the amount of your award for each announcement and the cooperative agreement number?

9. Is your organization a government or municipal agency, a private or public university or college, or a private hospital? (If you answer yes, you are not eligible to apply.)

10. Is your organization included in the category described in section 501(c)(4) of the Internal Revenue Code of 1986 that engages in lobbying activities? (If you answer yes to this question, you are not eligible to apply.)

What Do I Include in the Submission Form?

The full application packet is available from The National Prevention Information Network (NPIN) at 1-800-458-5231 (TTY users: 1-800-243-7012) or their web site: www.cdcnpin.org/program. You can also send requests by fax to 1-888-282-7681 or e-mail to application-cbo@cdcnpin.org. This information is also posted on the Division of HIV/AIDS Prevention (DHAP) website at: http://www.cdc.gov/hiv/funding/00100. The application packet includes forms, instructions, guidance, and the submission form. The submission form includes a list of questions and a request for a short description of your target population and your proposed program plan. Your answers will not be scored, but will give us an idea of your overall plan. This will help in the review process. Your short description should be no more than 100 words and should tell us about:

1. The population you plan to target and the geographic area where they live.

2. The goals and the outcomes you expect to have as a result of the services you are going to provide.

3. A brief description/outline of what you plan to do.

How Do I Write My Proposal (Narrative)?

Your narrative should be no more than 35 pages. We have included the number of points attached to each section and a suggested number of pages. Sections can vary in length as long as the total number of pages in this section is no more than 35. The narrative should address the following areas.

Justification of Need

How is this section scored: You will be scored on what information you use and how you use it to demonstrate the need of the target population for your proposed program. Check with the health department for information on the HIV statistics and HIV needs assessment developed for the community planning process. Use this information when writing your answer for this section.

Suggested length: 6 pages.

Points for this section: 20 points.

Answer all of the following questions for this section.

1. How has your proposed target population been affected by the HIV/AIDS epidemic (for example, how many persons are infected with HIV, with AIDS, how many deaths have there been from AIDS, how do socioeconomics affect the population)? (5 points)

2. What are the behaviors and other characteristics of your target population that put them at a high risk of becoming infected with HIV or giving HIV to a needle-or sex-sharing partner (for example, unsafe sexual behaviors as indicated by rates of STDs, teen pregnancy rates, or assessments of risk behaviors; substance use rates; environmental, social, cultural, or language characteristics)? (5 points)

3. What are the barriers to accessing HIV prevention counseling and testing in your target population? How will you address these barriers? (5 points)

4. Which organizations in your area are providing similar services? Please describe their activities and how your proposed activities will further meet the needs of the target population or improve services provided. (2 points)

5. Is your proposed target population a priority population as indicated in the comprehensive HIV prevention plan developed through the community planning process? If not, please tell us why your proposed activities are needed? (3 points)

Program Activities

How is this section scored: We will look at whether or not your goals are likely to be achieved; that is to say, if your activities are sound, doable, creative, specific (how detailed you are in what you want to do), time-phased (have you set a time frame), and measurable (can you show that your activities made a difference). Remember that you will work with the health department and other organizations serving your proposed target population to carry out your program activities. As the applicant, you must describe how all planned services are to be provided either by you or together with another organization.

Suggested length: 15 pages.

Points for this section: 40 points.

Answer all of the following questions for this section.

What are your objectives and activities to accomplish your objectives for the first year (include objectives for each of the program areas: Reaching clients, counseling and testing, referral and linkages, partner counseling and referral services)? You must give objectives that can be measured (that is to say, you can show with numbers that progress is being made and the specific activities done to achieve each objective).

For Example: Objectives

Reaching clients: Reach No. ____ high-risk persons with face-to-face information about the benefits of testing; Counseling and testing: Inform No. ____ persons from the target population of their test results; Referral and linkages: Ensure that No. ____ HIV-positive persons are able to get medical services; Partner counseling and referral: Successfully notify No. ____ partners of their risk and encourage testing. Refer No. ____ of clients with HIV to the health department for partner counseling and referral services.

Reaching Your Clients (8 points):

1. What will you do to reach persons who have not been tested before and who are at a high risk because of their behaviors?

2. What steps will you take to build trust and credibility with the target population?

3. How will you get the target population to use your services?

4. How will you use the available social networks to help you provide counseling and testing services?

Counseling and Testing (10 points):

1. Will you offer confidential or anonymous testing?

2. What testing methods will you use?

3. How will you ensure that you have approval from a medical doctor for testing activities? (Letter of intent from a physician is required.)

4. How will you get the test specimens to a laboratory for processing (including agreements on transportation of specimens to lab, type of testing, and payment for processing fees)?

5. How will you collect and report testing information (you should follow the procedures outlined by the health department)?

6. How will you follow up with persons who use your services to make sure they receive their test results?

7. How will you implement HIV prevention counseling?

Referral and Linkages (6 points):

1. How will you help persons who are HIV infected or at a high risk of HIV get the treatment and other services they need (for example, medical, mental health, and drug use treatment)?

2. Which of your proposed activities will be carried out by those organizations working with you, whether they are part of an HIV prevention coalition, subcontractors, or non-paid partners? You must provide in your application a memorandum of agreement or letter of intent from all partnering organizations, as applicable.

Partner Counseling and Referral Services (5 points):

How will you ensure that partner counseling and referral services are provided?

Confidentiality (5 points):

What steps will you take to ensure the confidentiality of all records, information, and activities related to your clients?

Management and Staffing of the Program (3 points):

1. How will you manage your program?

2. What will be the roles and responsibilities of the staff?

3. What skills and experience does your staff have?

4. What are the roles and responsibilities of those organizations you want to work with you (staff responsibilities, skills, experience)?

Time Line (3 points):

What are the details of your time line? Include information on the most important steps in your project and the approximate dates for when a step is begun and expected to be completed.

Training, Quality Assurance, and Program Monitoring and Evaluation

How is this section scored: We will look at your overall plan to determine if your objectives are appropriate to your goals, if they are complete, sound in their methods, doable, specific, time phased (have you set a time frame), and measurable (can you show that your activities made a difference).

Suggested length: 8 pages.

Points for this section: 25 points.

In this section, discuss how you will address each of the requirements for training, quality assurance, and program monitoring and evaluation. With each goal and set of objectives, you also need to discuss activities, staffing/resources, data collection, and time line.

Answer all of the following questions for this section.

1. What will you do to make sure your staff gets the training they need? Give an estimate of the number of staff to be trained, which staff will be trained, and who will provide the training. (4 points)

2. How will you routinely monitor your staff's activities to determine if they are following established guidelines and protocols for pre-and post-test HIV prevention counseling and referral and testing methods and laboratory processing and what training they need? (3 points)

3. How will you determine and meet your organization's needs in the areas of capacity-building or technical assistance? (3 points)

4. How will you determine if you are meeting your objectives during the first year of operation? (4 points)

5. How will you measure whether your services are meeting the needs of the target population and if those you refer for services are using the referral? (3 points)

6. How will you monitor your activities and those of organizations working with you as a subcontractor or as collaborators? (4 points)

7. How will you collect information required by the health department on reaching your clients, counseling and testing, referrals and linkages, and partner counseling and referral services, and how will you use this information to improve your program? (4 points)

Organizational History and Experience

How is this section scored: We will look at the overall experience of your organization in working with the target population. This will include how much experience you have related to your proposed project.

Suggested length: 6 pages.

Points for this section: 15 points.

Answer all of the following questions for this section:

1. What are the specific kinds of health-related services, other than HIV prevention services, that you have provided your target population and for how long? (3 points)

2. What are the HIV prevention services (including HIV prevention counseling, testing, and referral services) that you have provided your target population and for how long? (2 points)

3. What other experience does your organization have in providing services to the target population, and for how long? (2 points)

4. What is your organization's experience in linking with other organizations for providing HIV care or prevention services and ongoing care, if needed, for your clients? (3 points)

Note: Please describe the types of services you want to make available and list the activities and materials your organization has that will meet these needs.

5. What experience does your organization have in record keeping of when and how services are provided, evaluating services, and marketing services to the target population? (3 points)

6. What experience does your organization have in improving the way services are delivered by finding and accessing other resources (for example, other organizations, materials, proven strategies)? (2 points)

How Much Will My Proposed Program Cost and How Many Staff Do I Need?

When preparing the budget, use Form 5161, 424A for the correct budget format. You can get this form by requesting a copy of the printed Program Announcement or from the Internet at:

http://www.cdc.gov/od/pgo/funding/funding.htm#HIV.

You must provide details of your budget for each activity you want to do. You must show how the operating costs will support the activities and objectives you propose. Your organization should have the capability to access the Internet and to download documents about HIV from CDC and other sites, as well as have electronic mail available. If you do not have this capability, you must provide a budget for purchasing this equipment. You should also include a budget for the type and number of staff you will need to successfully put into place your proposed activities. The following information and questions will help you in writing this part of the application.

1. What are your budget and staffing needs? This answer should provide the specifics of how you plan to spend funds. For example, how much funding is needed to provide services to the target population, how much is needed to operate your organization (staff, supplies), how much is needed for contracting with other organizations.

Note: CDC may not approve or fund all proposed activities. Give as much detail as possible to support each budget item. List each cost separately when possible.

2. If you are contracting with other organizations or are applying as a coalition, you must include in the budget the type and name (if known) of the organization(s); how you chose the organization(s); what activities they will do; why they are the best ones to do these activities; a detailed list of the funds you think you will need to pay the organization(s); why and how long you will use their services; and how you will keep track of what they are doing for you.

3. Provide a description for each job, including job title, function, general duties, and activities; the rate of pay and whether it is hourly or salary; and the level of effort and how much time will be spent on the activities (give this in a percentage, for example, 50% of time spent on evaluation). Also, if you already know names and titles of persons you will be working with, include this information and a resume, if available. If you don't have names yet, tell us how you plan to recruit these persons. For positions that are voluntary, give a description of the work the volunteers will be doing. Also include the experience and training that is available in relation to the proposed project.

4. If you ask for indirect costs, you must include a copy of your organization's current agreement concerning your negotiated Federal indirect cost rate.

What Other Materials Do I Need to Attach?

Any materials you include as attachments should be printed on one side of 8½ x 11 paper. Do not submit materials that are bound (for example, booklets or pamphlets, three-ring binders, or stapled). You will need to provide 2 copies of these attachments, also on 8½ x 11 paper and not bound. If your materials are bound, they will not be copied for the reviewer. The following is a list of additional materials:

1. A description of funds you receive from any other source to support your HIV/AIDS programs and other similar programs that target the same population included in your proposed plan. You must include: (a) The name of the organization/source of income, the amount of funding they give you, a very brief description of how you use the funds, and the budget and project period and (b) information that tells us that the funds you are requesting through this program announcement will not be used to replace funds received from any other Federal or non-Federal source.

Note: CDC-awarded funds can be used to expand or enhance services supported with other Federal or non-Federal funds.

2. Independent audit statements from a certified public accountant for the past 2 years (1998, 1999). If not audits, please provide completed IRS Form 990s for the last 2 years.

3. If you are part of a national organization, please include an original, signed letter from the chief executive officer of the national organization that states that they understand this program announcement and the responsibilities you will have if you are chosen for funding.

4. If you are working with other organizations (for example, community-based or referral), you must include a memorandum of understanding or agreement or a letter to show that the relationship is accepted by both organizations. This memorandum or letter should give details about the activities you propose to do with the organization. This must be submitted each year to show that you are still working with the organization.

F. Submission and Deadline

How Do I Submit My Application and When Is It Due?

You must send to us the original and two (2) copies of PHS 5161 (OMB Number 0937-0189). Forms are available at the following Internet address:

http://www.cdc.gov/od/pgo/forminfo.htm.

You must also send an original and two (2) copies of your application, including attachments.

Send your application to: Ron Van Duyne, Grants Management Branch, Procurement and Grants Office, Program Announcement 00100 (Belinda Hammond), Centers for Disease Control and Prevention, 2920 Brandywine Road, Room 3000, Atlanta, Georgia 30341-4146.

Application Deadline: August 7, 2000.

Your application will be accepted, if it has a postmark of August 7, 2000 that is from the U.S. Postal Service or a commercial carrier (no private meters will be accepted) and arrives in time to be given to the independent review group.

Late Applications: Applications that are not received on time, that do not have a readable postmark, have a postmark from a private meter machine, or arrive too late to be included in the independent review, will be considered late, will not be reviewed, and will be returned to the applicant.

To help CDC in the review process, we ask that you send to us by July 7, either through electronic mail, fax, or the U.S. Post Office a statement of your intent to apply for funding. Your statement should include your organization's name, address, and telephone and fax numbers. This statement is only to let CDC know of your interest in applying. It is not a commitment. Please send this information to the Project Officer and Grants Management Specialist listed in the Program/Business Assistance section below. Submitting this information is not a requirement, but will help CDC make sure we have enough and the most qualified reviewers for this announcement.

G. Evaluation Criteria

How Will My Application Be Scored?

Your application will not be compared to other applications. It will only be reviewed based on the information contained in section E. What Do I Include in My Application and How Should It Look? This will be done by an independent review group that is chosen by CDC. Before final award decisions are made, CDC may make general site visits to those CBOs who rank high on the initial scoring to look at your program, business management, or fiscal capabilities. CDC may also check with the health department and your organization's board of directors to find out more about your organizational structure and the availability of needed services and support.

Technical Reporting Requirements

If you are selected for funding, you must let CDC know how you are doing by sending to us an original plus two (2) copies of:

1. Quarterly progress reports, no later than 30 days after the end of each 3-month period;

2. A financial status report, no later than 90 days after the end of each budget period;

3. Final financial report and performance report, no later than 90 days after the end of the project period; and

4. Reports on the numbers of HIV antibody counseling, testing, and referral activities you have done.

Note: Send all reports to the Grants Management Specialist identified in section I. Where Can I Get More Information.

H. Other Requirements

What Else Do I Have to Do?

The following are additional requirements that must be met if awarded a cooperative agreement under this announcement:

AR-4 HIV/AIDS Confidentiality Provisions

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

For more details on these requirements, please contact the Grants Management Specialist listed in the contact section of this announcement.

I. Authority and Catalog of Federal Domestic Assistance Number

This program is authorized under Sections 301(a) and 317 of the Public Health Service Act, 42 U.S.C. 241(a) and 247(b) as amended. The Catalog of Federal Domestic Assistance Number is 93.939, HIV Prevention Activities—Non-Governmental Organization Based.

J. Where To Obtain Additional Information

Where Can I Get More Information?

CDC strongly suggests that you supplement this program announcement as it appears in the Federal Register, with a copy of the program announcement that is in an easy-to-use format, includes the necessary forms, and has additional information to help you through the process. For example, CDC has available a sample application to help guide you in writing your own proposal. Also, the following publications will help you write your application.

CDC Report of the NIH Panel to Define Principles of Therapy of HIV Infection and Guidelines for the Use of Antiretroviral Agents in HIV-Infected Adults and Adolescents. MMWR 1998;47 (No.RR-5)

www.cdc.gov/hiv/pubs/mmwr/mmwr1998.htm

HIV Counseling, Testing and Referral: Standards & Guidelines.

Centers for Disease Control and Prevention. U.S. Department of Health and Human Services. Atlanta, GA; 1994.

www.cdc.gov/hiv/pubs/hivctsrg.pdf

HIV Partner Counseling and Referral Services. Guidance. Centers for Disease Control and Prevention. U.S. Department of Health and Human Services. Atlanta, Georgia; December 1998.

http://www.cdc.gov/hiv/pubs/pcrs.htm

Public Health Service Guidelines for Counseling and Antibody Testing to Prevent HIV Infection and AIDS. Centers for Disease Control and Prevention. MMWR 1987, August 14;36:509-15.

www.cdc.gov/epo/mmwr/preview/mmwrhtml/00015088.htm

Quality Assurance of HIV Prevention Counseling in a Multi-Center Randomized Controlled Trial. Kamb ML, Dillon BA, Fishbein M, Willis KL. Public Health Reports 1996;111(S1):99-107.

Recommendations for HIV Testing Services for Inpatients and Outpatients in Acute-Care Hospital Settings. Centers for Disease Control and Prevention. 1993. MMWR Recommendations and Reports. U.S. Department of Health and Human Services, Atlanta, GA; Vol. 42, No. RR-2, January 15, 1993.

www.cdc.gov/hiv/pubs/mmwr/mmwr1993.htm

To request this easier-to-use version and additional written information, call The National Prevention Information Network (NPIN) at 1-800-458-5231 (TTY users: 1-800-243-7012) or visit their web site: www.cdcnpin.org/program or you can send requests by fax to 1-888-282-7681 or e-mail to application-cbo@cdcnpin.org

This information is also posted on the Division of HIV/AIDS Prevention (DHAP) website at:

http://www.cdc.gov/hiv/funding.htm

Forms in both PDF and word processing files are available at the CDC Procurement and Grants Office website:

http://www.cdc.gov/od/pgo/funding/funding.htm#HIV

CDC also maintains a Listserv (HIV-PREV) related to this program announcement. If you decide to subscribe to the HIV-PREV Listserv, you will be able to send questions and receive an answer and information through e-mail, including the latest news about the program announcement. Those questions asked most often will be posted to the DHAP Website. You can subscribe to the Listserv on-line or via e-mail by sending a message to: listserv@listserv.cdc.gov and writing the following in the body of the message: subscribe hiv-prev first name last name (for example, subscribe hiv-prev john smith).

For Program Technical Assistance: Contact: Ted Pestorius, Centers for Disease Control and Prevention, National Center for HIV, STD, and TB Prevention, Division of HIV/AIDS Prevention, Community Assistance, Planning, and National Partnerships Branch, 1600 Clifton Road, MS-E58, Atlanta, Georgia 30333, Telephone (404) 639-5215, E-mail: tpestorius@cdc.gov

For Business Questions: Contact: Belinda Hammond, Centers for Disease Control and Prevention, Procurement and Grants Office, Grants Management Branch, Program Announcement 00100, 2920 Brandywine Road, Room 3000, MS-E15, Atlanta, GA 30341-4146, Telephone (770) 488-2738, E-mail: bhammond@cdc.gov, DHAP Internet address: www.cdc.gov/hiv

Dated: June 22, 2000.
John L. Williams,
Director, Procurement and Grants Office, Centers for Disease Control and Prevention (CDC).

[FR Doc. 00-16280 Filed 6-27-00; 8:45 am]

BILLING CODE 4163-18-P